DEPARTMENT OF TRANSPORTATION

Federal Aviation Administration

14 CFR Part 71

[Docket No. FAA-2018-0312; Airspace Docket No. 18-AGL-7]

RIN 2120-AA66

Establishment of Class E Airspace; Glen Ullin, ND

AGENCY: Federal Aviation Administration (FAA), DOT.

ACTION: Final rule, correction.

SUMMARY: This action corrects a final rule published in the Federal Register of September 26, 2018, that established Class E airspace extending upward from 700 feet above the surface at Glen Ullin Regional Airport, Glen Ullin, ND. The state identifier “WI” was inadvertently, included in the header of the legal description instead of “ND”.

DATES: Effective date 0901 UTC, February 28, 2019. The Director of the Federal Register approves this incorporation by reference action under Title 1 Code of Federal Regulations part 51, subject to the annual revision of FAA Order 7400.11 and publication of conforming amendments.

FOR FURTHER INFORMATION CONTACT: Rebecca Shelby, Federal Aviation Administration, Operations Support Group, Central Service Center, 10101 Hillwood Parkway, Fort Worth, TX 76177; telephone (817) 222-5857.

SUPPLEMENTARY INFORMATION:

History

The FAA published a final rule in the Federal Register for Docket No. FAA-2018-0312 (83 FR 48530, September 26, 2018), establishing Class E airspace at Glen Ullin Regional Airport, Glen Ullin, ND. Subsequent to publication, the FAA identified a clerical error that the state identifier in the header of the legal description listed the airport as Glen Ullin Regional Airport, Glen Ullin, WI. This correction changes the state identifier in the legal description from “WI” to “ND” and to read “Glen Ullin Regional Airport, ND”.

Correction to Final Rule

Accordingly, pursuant to the authority delegated to me, in the Federal Register of September 26, 2018 (83 FR 48530) FR Doc. 2018-20870, Establishment of Class E Airspace; Glen Ullin, WI, is corrected as follows:

§ 71.1 [Amended]

On page 48531, column 3, in instruction 2, following the heading “AGL ND E5 Glen Ullin, ND [NEW]”, remove “Glen Ullin Regional Airport, WI” and add in its place “Glen Ullin Regional Airport, ND”.

Issued in Fort Worth, Texas, on December 13, 2018.
John Witucki,
Acting Manager, Operations Support Group, Central Service Center.

[FR Doc. 2018-27563 Filed 12-21-18; 8:45 am]

BILLING CODE 4910-13-P